DEPARTMENT OF THE INTERIOR

Bureau of Land Management

[LLCON06000 L16100000.DP0000]

Notice of Availability of the Draft Resource Management Plan and Environmental Impact Statement for the Dominguez-Escalante National Conservation Area in Colorado

AGENCY: Bureau of Land Management, Interior.

ACTION: Notice of availability.

SUMMARY: In accordance with the National Environmental Policy Act of 1969, as amended, and the Federal Land Policy and Management Act of 1976, as amended, the Bureau of Land Management (BLM) has prepared a Draft Resource Management Plan (RMP) and Draft Environmental Impact Statement (EIS) for the Dominguez-Escalante National Conservation Area (D-E NCA) and by this notice is announcing the opening of the public comment period. Congress designated the D-E NCA, as well as the Dominguez Canyon Wilderness (Wilderness), through the Omnibus Public Lands Management Act of 2009 (Omnibus Act). The Omnibus Act also established the purpose of the D-E NCA to “conserve and protect for the benefit and enjoyment of present and future generations—the unique and important resources and values of the land and the water resources of area streams.”

DATES: To ensure that comments will be considered, the BLM must receive written comments on the Draft RMP/Draft EIS within 90 days following the date the Environmental Protection Agency publishes the notice of the Draft RMP/Draft EIS in the Federal Register. The BLM will announce future meetings or hearings and any other public participation activities at least 15 days in advance through public notices, media releases, and/or mailings.

ADDRESSES: You may submit comments related to the D-E NCA Draft RMP/Draft EIS by any of the following methods:

• via the RMP Web site: http://www.blm.gov/co/st/en/nca/denca/denca_rmp.html.

• email: dencarmp@blm.gov.

• fax: 970-244-3083.

• mail: BLM—D-E NCA RMP, 2815 H Road, Grand Junction, Colorado 81506.

Copies of the D-E NCA Draft RMP/Draft EIS are available in the BLM's Grand Junction Field Office at 2815 H Road, Grand Junction, CO 81506; the BLM's Uncompahgre Field Office at 2465 South Townsend Ave., Montrose, CO 81401; or on the Web site: http://www.blm.gov/co/st/en/nca/denca/denca_rmp.html.

FOR FURTHER INFORMATION CONTACT: Ben Blom, Planning Team Lead; telephone: 970-244-3188; Grand Junction Field Office: see address above; email: bblom@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM prepared the D-E NCA Draft RMP/Draft EIS to evaluate and revise the current management decisions for public lands and resources within the D-E NCA planning area. A National Conservation Area, such as the D-E NCA, is an area designated by Congress, generally, to conserve, protect, enhance, and properly manage the resources and values for which it was designated for the benefit and enjoyment of present and future generations. The D-E NCA was established by the Omnibus Public Lands Management Act of 2009. The D-E NCA is currently managed under the 1987 Grand Junction Record of Decision and Approved RMP, as amended; the 1989 Uncompahgre Basin Record of Decision and Approved RMP, as amended; and the BLM's 2010 Interim Management Policy for the D-E NCA and Dominguez Canyon Wilderness. Decisions made through this planning process must also stay within the framework outlined in the enabling legislation which created this NCA.

The D-E NCA planning area includes approximately 218,000 acres of State, private and BLM-managed public lands located in Delta, Mesa, and Montrose counties in western Colorado. Within the D-E NCA planning area, the BLM administers approximately 210,000 acres of federal surface and subsurface estate. Management decisions made as a result of the RMP will apply only to the BLM-administered public lands in the D-E NCA planning area.

The formal public scoping process for the RMP/EIS began on August 3, 2010, with the publication of a Notice of Intent in the Federal Register, and ended on October 1, 2010. The Secretary of the Interior established an advisory council composed of ten residents representing various communities and interests throughout the surrounding three-county area to assist the BLM in developing and implementing this RMP/EIS. The council met 24 times in 2011 and 2012, with all meetings open to the public.

The BLM held two public workshops for travel management data collection in fall 2010 to give the public an opportunity to review the route inventory for completeness and accuracy, as well as offer suggestions for changes to current routes or the addition of new routes that would complement the existing system. The BLM held two additional workshops regarding socioeconomics in fall 2011.

Over the course of the planning process, the BLM maintained a Plan Web site, produced a series of monthly newsletters, distributed press releases, and conducted radio interviews. All materials will be available on the D-E NCA RMP Web site, and the public will have the opportunity to comment online. Paper copies and CDs of the Draft RMP will be available at BLM Field Offices in Montrose and Grand Junction, Colorado. Major issues considered in the Draft RMP/Draft EIS include geological and paleontological resources; vegetation and soils; wildlife and terrestrial habitat; aquatic, wetlands and riparian areas; water resources; cultural resources; wilderness; lands with wilderness characteristics; visual resources; recreation; science and education; livestock grazing; transportation and travel management; lands and realty; and special designations.

The Draft RMP/Draft EIS evaluates, in detail, five alternatives, including the No Action Alternative (Alternative A) and four action alternatives (Alternatives B, C, D, and E). The BLM has identified Alternative E as the preferred alternative. Identification of this alternative, however, does not represent final agency direction, and the Proposed RMP may reflect changes or adjustments based on information received from public comment, from new information, or from changes in BLM policies or priorities. The Proposed RMP may include objectives and actions described in the other analyzed alternatives. Alternative A would retain the current management goals, objectives and direction specified in the 1987 Grand Junction RMP and 1989 Uncompahgre Basin RMP, where the management is consistent with the Omnibus Act. Alternative B focuses on allowing natural processes to influence the condition of resources, which would involve placing additional restrictions on allowable uses to manage the D-E NCA. Recreation would be managed largely through Extensive Recreation Management Areas, where the BLM would commit to providing activity opportunities but not specific recreation outcomes or settings. Alternative C emphasizes active management for biological restoration and cultural resource protection. The BLM would set objectives that provide a high level of resource protection and restoration. Only two areas would be managed as Special Recreation Management Areas, with the rest of the D-E NCA not managed as recreation areas. Alternative D would also emphasize an active management approach for biological restoration and cultural resource protection, but with objectives that provide a lower level of restoration and protection for those resources as compared to Alternative C. Resource uses, particularly trail-based recreation and livestock grazing, would be emphasized. The enabling legislation for the D-E NCA identified livestock grazing as a use of the D-E NCA that shall be managed similarly to how it is managed on other lands under the BLM's jurisdiction.

The BLM's identified preferred alternative is Alternative E, which is a mix of the other four alternatives that is based on the draft impact assessment. Under this alternative, the BLM would set measurable goals for biological restoration and cultural resource protection. Objectives for resource protection and restoration would be less ambitious than in Alternative C but more ambitious than in Alternative D. Recreation would be managed by using a mix of Extensive Recreation Management Areas (3) and Special Recreation Management Areas (4).

Pursuant to 43 CFR 1610.7-2(b), this notice announces a concurrent public comment period on proposed Areas of Critical Environmental Concern (ACEC). There are currently two ACECs within the D-E NCA. These are the Gunnison Gravels ACEC (5 acres) and the Escalante Canyon ACEC (1.895 acres). Under Alternative E (the BLM preferred alternative), the BLM would retain the Escalante Canyon ACEC and propose one new ACEC, the River Rims ACEC. Proposed ACECs and the resource use limitations that would occur if formally designated are as follows:

• Big Dominguez Canyon ACEC—5,626 acres, Alternative C: manage livestock grazing and trailing to protect unique and sensitive rare plants and vegetative communities; minimize impacts to rare plants and vegetative communities from recreation use through route designation and group size limitations.

• Escalante Canyon ACEC—1,895 acres in Alternative A, 2,281 acres in Alternative C and E, and 11,202 acres in Alternative D: continue livestock grazing at current levels, unless studies determine that threatened and endangered plant species and unique plant associations or their potential habitats are being degraded (Alternative A); manage livestock grazing and trailing in the Escalante Canyon ACEC to protect unique and sensitive plant resources (Alternatives C, D, and E); provide informational signs to identify potential recreational hazards (Alternatives A, C, D, and E); prohibit woodland harvests, so as to prevent accidental destruction of listed species and unique plant associations (Alternatives A, C, D, and E); prohibit surface occupancy (Alternative A); prohibit surface-disturbing activities (Alternative C); apply site-specific relocation restrictions (Alternatives D and E); close the area to development of major utilities to prevent accidental destruction of listed species and unique plant associations and maintain scenic qualities (Alternative A); provide the public with outdoor classroom opportunities related to the area's unique and sensitive plants, wildlife, fish, geological and cultural resources (Alternatives D and E); reduce, as much as practicable, barriers to fish and wildlife movement through Escalante Canyon (Alternatives D and E).

• Gibbler Mountain ACEC—1,310 acres, Alternative D: prohibit surface-disturbing activities within 100 meters of known, significant paleontological sites and within 200 meters of BLM sensitive plant occurrences; reduce, as much as practicable, route density within 200 meters of BLM sensitive plant occurrences.

• Gunnison Gravels ACEC—5 acres in Alternative A, 15 acres in Alternative D: prohibit surface occupancy (Alternative A); prohibit surface-disturbing activities (Alternative D); close the area to mineral materials sales or free use permits (Alternative A); prohibit the collection of rocks and minerals (Alternative D); manage as unsuitable for public utilities (Alternative A).

• Gunnison River ACEC—17,316 acres, Alternative D: prohibit surface-disturbing activities; manage livestock grazing and trailing to protect unique and sensitive plant and wildlife resources; manage the hydrological and riparian resources of the Gunnison River to promote delisting of federally listed fish species; reduce, as much as practicable, route density within 200 meters of Colorado hookless cactus.

• River Rims ACEC—4,916 acres in Alternative C; 5,405 acres in Alternative E: prohibit surface-disturbing activities (Alternatives C and E); manage livestock grazing and trailing to protect unique and sensitive plant resources (Alternatives C and E); prohibit commercial, organized group, and competitive special recreation permits (Alternative C); prohibit competitive special recreation permits but allow low-impact commercial and organized group special recreation permits (Alternative D); close all BLM routes to the public within 200 meters of Colorado hookless cactus (Alternatives C and E).

Please note that public comments and information submitted, including names, street addresses, and email addresses of persons who submit comments, will be available for public review and disclosure at the above address during regular business hours (8:00 a.m. to 4:00 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Helen M. Hankins,
BLM Colorado State Director.

[FR Doc. 2013-11776 Filed 5-16-13; 8:45 am]

BILLING CODE 4310-JB-P